DEPARTMENT OF THE INTERIOR

National Park Service

[NPS-WASO-NAGPRA-18434; PPWOCRADN0-PCU00RP15.R50000]

Native American Graves Protection and Repatriation Review Committee: Meeting

AGENCY: National Park Service, Interior.

ACTION: Meeting notice.

SUMMARY: Notice is hereby given in accordance with the Federal Advisory Committee Act, (5 U.S.C. Appendix 1-16), of two meetings of the Native American Graves Protection and Repatriation Review Committee (Review Committee). The Review Committee will meet on November 18-19, 2015, in Norman, OK, and if necessary, via teleconference, on December 14, 2015. All meetings will be open to the public.

DATES: The Review Committee will meet November 18-19, 2015, 8:30 a.m. until 5:00 p.m. (Central), and if necessary, on December 14, 2015, from 2:00 p.m. until approximately 4:00 p.m. (Eastern). For the November meeting, presentation requests and accompanying materials must be received by October 14, 2015; requests for culturally unidentifiable (CUI) disposition must be received by September 9, 2015; requests for findings of fact must be received by August 26, 2015; and requests to convene parties and facilitate the resolution of a dispute must be received by July 22, 2015.

ADDRESSES: The Review Committee will meet on November 18-19, 2015, at the Riverwind Hotel and Casino, 1544 State Highway 9, Norman, OK 73072. Electronic submissions of materials or requests are to be sent to nagpra_dfo@nps.gov.

SUPPLEMENTARY INFORMATION: The Review Committee was established in Section 8 of the Native American Graves Protection and Repatriation Act of 1990 (NAGPRA), 25 U.S.C. 3006.

November 18-19, 2015

The Review Committee will meet on November 18-19, 2015, at the Riverwind Hotel and Casino, Norman, OK, from 8:30 a.m. to 5:00 p.m. (Central). This meeting will be open to the public. The agenda for this meeting will include a report from the National NAGPRA Program; the discussion and possible finalization of the Review Committee Report to Congress for 2015; subcommittee reports and discussion; and other topics related to the Review Committee's responsibilities under Section 8 of NAGPRA. In addition, the agenda may include requests to the Review Committee for a recommendation to the Secretary of the Interior that an agreed-upon disposition of Native American human remains determined to be culturally unidentifiable proceed; presentations by Indian tribes, Native Hawaiian organizations, museums, Federal agencies, associations, and individuals; public comment; requests to the Review Committee, pursuant to 25 U.S.C. 3006(c)(3), for review and findings of fact related to the identity or cultural affiliation of human remains or other cultural items, or the return of such items; and facilitation of the resolution of disputes among parties convened by the Review Committee pursuant to 25 U.S.C. 3006(c)(4). Presentation to the Review Committee by telephone may be requested but is not guaranteed. The agenda and materials for this meeting will be posted on or before October 28, 2015, at http://www.nps.gov/nagpra.

The Review Committee is soliciting presentations from Indian tribes, Native Hawaiian organizations, museums, and Federal agencies on the following two topics: (1) The progress made, and any barriers encountered, in implementing NAGPRA and (2) the outcomes of disputes reviewed by the Review Committee pursuant to 25 U.S.C. 3006(c)(4). The Review Committee also will consider other presentations from Indian tribes, Native Hawaiian organizations, museums, Federal agencies, associations, and individuals. A presentation request must, at minimum, include an abstract of the presentation and contact information for the presenter(s). Presentation requests and materials must be received by October 14, 2015. Written comments will be accepted from any party and provided to the Review Committee. Written comments received by October 29, 2015, will be provided to the Review Committee before the meeting. Written comments received later than October 29, 2015, will be provided to the Review Committee at the meeting.

The Review Committee will consider requests for a recommendation to the Secretary of the Interior that an agreed-upon disposition of Native American human remains determined to be CUI proceed. A CUI disposition request must include the appropriate, completed form posted on the National NAGPRA Program Web site and, as applicable, the ancillary materials noted on the form. To access and download the appropriate form—either the form for CUI with a “tribal land” or “aboriginal land” provenience or the form for CUI without a “tribal land” or “aboriginal land” provenience—go to http://www.nps.gov/nagpra, and then click on “Request for CUI Disposition Forms.” CUI disposition requests must be received by September 9, 2015.

The Review Committee will consider requests, pursuant to 25 U.S.C. 3006(c)(3), for review and findings of fact related to the identity or cultural affiliation of human remains or other cultural items, or the return of such items, where consensus among affected parties is unclear or uncertain. A request for findings of fact must be accompanied by a statement of the fact(s) at issue and supporting materials, including those exchanged by the parties to consultation concerning the Native American human remains and/or other cultural items. To access procedures for presenting findings of fact, go to http://www.nps.gov/nagpra/REVIEW/Procedures.htm. Requests for findings of fact must be received by August 26, 2015.

The Review Committee will consider requests, pursuant to 25 U.S.C. 3006(c)(4), to convene parties and facilitate the resolution of a dispute, where consensus clearly has not been reached among affected parties regarding the identity or cultural affiliation of human remains or other cultural items, or the return of such items. A request to convene parties and facilitate the resolution of a dispute must be accompanied by a statement of the decision of the museum or Federal agency subject to the dispute resolution request, a statement of the issue, and the materials exchanged by the parties concerning the Native American human remains and/or other cultural items. To access procedures for presenting disputes, go to http://www.nps.gov/nagpra/REVIEW/Procedures.htm. Requests to convene parties and facilitate resolution of a dispute must be received by July 22, 2015.

Submissions and requests should be sent to nagpra_dfo@nps.gov. Such items are subject to posting on the National NAGPRA Program Web site prior to the meeting.

December 14, 2015

The Review Committee will meet via teleconference on December 14, 2015, from 2:00 p.m. until approximately 4:00 p.m. (Eastern), for the sole purpose of finalizing the Review Committee Report to Congress, should the report not be finalized by November 19. This meeting will be open to the public. Those who desire to attend the meeting should register at http://www.nps.gov/nagpra to be provided the telephone access number for the meeting. A transcript and minutes of the meeting will also appear on the Web site.

General Information

Information about NAGPRA, the Review Committee, and Review Committee meetings is available on the National NAGPRA Program Web site at http://www.nps.gov/nagpra. For the Review Committee's meeting procedures, click on “Review Committee,” then click on “Procedures.” Meeting minutes may be accessed by going to the Web site, then clicking on “Review Committee,” and then clicking on “Meeting Minutes.” Approximately fourteen weeks after each Review Committee meeting, the meeting transcript is posted on the National NAGPRA Program Web site.

Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Review Committee; consulting with the Secretary of the Interior on the development of regulations to carry out NAGPRA; and making recommendations regarding future care of repatriated cultural items. The Review Committee's work is carried out during the course of meetings that are open to the public.

Before including your address, telephone number, email address, or other personal identifying information in your submission, you should be aware that your entire submission—including your personal identifying information—may be made publicly available at any time. While you may ask us to withhold your personal identifying information from public review, we cannot guarantee that we will be able to do so.

Dated: June 9, 2015.
Shirley Sears,
Acting Chief, Office of Policy.

[FR Doc. 2015-14551 Filed 6-12-15; 8:45 am]

BILLING CODE 4310-EE-P